DEPARTMENT OF TRANSPORTATION

Office of the Secretary

Aviation Proceedings, Agreements Filed the Week Ending July 23, 2004

The following Agreements were filed with the Department of Transportation under the provisions of 49 U.S.C. 412 and 414. Answers may be filed within 21 days after the filing of the application.

Docket Number: OST-2004-18717.

Date Filed: July 22, 2004.

Parties: Members of the International Air Transport Association.

Subject: CSC/26/Meet/007/2004 dated July 21, 2004.

Finally Adopted Resolutions: 002/003/600a/601/602/619/621/680/681/695/788/ RP1600b/1600b(II)/1601/1665/1670.

Intended effective date: October 1, 2004.

Docket Number: OST-2004-18723.

Date Filed: July 23, 2004.

Parties: Members of the International Air Transport Association.

Subject: PTC2 EUR-ME 0188 dated July 23, 2004.

Mail Vote 398—Resolution 010p, TC2 Special Passenger Amending Resolution between Europe and Middle East r1-r3.

Intended effective date: January 1, 2005.

Docket Number: OST-2004-18724.

Date Filed: July 23, 2004.

Parties: Members of the International Air Transport Association.

Subject: PTC3 0772 dated July 23, 2004.

Mail Vote 401—Resolution 010s, TC3 Special Passenger Amending Resolution between Japan and China (excluding Hong Kong SAR and Macao SAR) r1-r9.

Intended effective date: August 10, 2004.

Andrea M. Jenkins,
Program Manager, Docket Operations, Federal Register Liaison.

[FR Doc. 04-18350 Filed 8-10-04; 8:45 am]

BILLING CODE 4910-62-P